DEPARTMENT OF STATE

[Public Notice: 11497]

Designation of Bonomade Machude Omar as a Specially Designated Global Terrorist

Acting under the authority of and in accordance with section 1(a)(ii)(B) of E.O. 13224 of September 23, 2001, as amended by E.O. 13268 of July 2, 2002, E.O. 13284 of January 23, 2003, and E.O. 13886 of September 9, 2019, I hereby determine that the person known as Bonomade Machude Omar, also known as Abu Sulayfa Muhammad, also known as Abu Suraqa Suraqa Filho, also known as Abu Surakha, also known as Ibn Omar, is a leader of ISIS-Mozambique, a group whose property and interests in property are blocked pursuant to a prior determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224, 66 FR 49079, 3 CFR, 2001 Comp., p. 786.

Dated: July 28, 2021.
Antony J. Blinken,
Secretary of State.

[FR Doc. 2021-17277 Filed 8-11-21; 8:45 am]

BILLING CODE 4710-ad-P